FEDERAL MARITIME COMMISSION

Agency Information Collection Activities: Submission for OMB Review; Comment Request

AGENCY: Federal Maritime Commission.

ACTION: Notice and request for comment.

SUMMARY: The Federal Maritime Commission (Commission) is giving public notice that the agency has submitted to the Office of Management and Budget (OMB) for approval the continuing information collection (extensions with no change) described in this notice. The public is invited to comment on the proposed information collection pursuant to the Paperwork Reduction Act of 1995.

DATES: Written comments must be submitted at the addresses below on or before May 1, 2017.

ADDRESSES: Comments should be addressed to:

Office of Information and Regulatory Affairs, Office of Management and Budget, Attention: Shannon Joyce, Desk Officer for Federal Maritime Commission, 725 17th Street NW., Washington, DC 20503, OIRA_Submission@OMB.EOP.GOV, Fax (202) 395-5167

and to:

Karen V. Gregory, Managing Director, Office of the Managing Director, Federal Maritime Commission, 800 North Capitol Street NW., Washington, DC 20573, Telephone: (202) 523-5800, OMD@fmc.gov.

FOR FURTHER INFORMATION CONTACT: Copies of the submission(s) may be obtained by contacting Donna Lee at 202-523-5800 or email: omd@fmc.gov.

SUPPLEMENTARY INFORMATION:

Request for Comment

Pursuant to the Paperwork Reduction Act of 1995 (44 U.S.C. 3501 et seq.), the Commission invites the general public and other Federal agencies to comment on the proposed information collection. On December 13, 2016, the Commission published a notice and request for comment in the Federal Register (81 FR 89940) regarding the agency's request for extension from OMB for information collections as required by the Paperwork Reduction Act of 1995. The Commission received no comments on the request for extension of OMB approval. The Commission has submitted the described information collection to OMB for approval.

In response to this notice, comments and suggestions should address one or more of the following points: (1) The necessity and utility of the proposed information collection for the proper performance of the agency's functions; (2) the accuracy of the estimated burden; (3) ways to enhance the quality, utility, and clarity of the information to be collected; and (4) the use of automated collection techniques or other forms of information technology to minimize the information collection burden.

Information Collection Open for Comment

Title: 46 CFR part 540—Application for Certificate of Financial Responsibility/Form FMC-131.

OMB Approval Number: 3072-0012 (Expires February 28, 2017).

Abstract: Sections 2 and 3 of Public Law 89-777 (46 U.S.C. 44101-44106) require owners or charterers of passenger vessels with passenger berths or stateroom accommodations for at least 50 passengers and embarking passengers at United States ports to establish their financial responsibility to meet liability incurred for death or injury to passengers and other persons, and to indemnify passengers in the event of nonperformance of transportation. The Commission's Rules at 46 CFR part 540 implement Public Law 89-777 and specify financial responsibility coverage requirements for such owners and charterers.

Current Actions: There are no changes to this information collection, and it is being submitted for extension purposes only.

Type of Review: Extension.

Needs and Uses: The information will be used by the Commission's staff to ensure that passenger vessel owners and charterers have evidenced financial responsibility to indemnify passengers and others in the event of nonperformance or casualty.

Frequency: This information is collected when applicants apply for a certificate or when existing certificants change any information in their application forms.

Affected Public Who Will Be Asked or Required to Respond: Respondents are owners, charterers and operators of passenger vessels with passenger berths or stateroom accommodations for at least 50 passengers that embark passengers from U.S. ports.

Number of Annual Respondents: The Commission estimates the total number of respondents at 47 annually.

Estimated Time per Response: The time per response ranges from 0.5 to 8 hours for reporting and recordkeeping requirements contained in the rules, and 8 hours for completing Application Form FMC-131.

Total Annual Burden: The Commission estimates the total hour burden at 1,294 hours.

Rachel Dickon,
Assistant Secretary.

[FR Doc. 2017-06263 Filed 3-29-17; 8:45 am]

BILLING CODE 6731-AA-P